DEPARTMENT OF AGRICULTURE

Rural Business-Cooperative Service

Notice of Request for Extension of a Currently Approved Information Collection

AGENCY: Rural Business-Cooperative Service, USDA.

ACTION: Proposed collection, comments requested.

SUMMARY: In accordance with the Paperwork Reduction Act of 1995, this notice announces Rural Development's intention to request an extension for a currently approved information collection in support of the Value-Added Producer Grant (VAPG) Program.

DATES: Comments on this notice must be received by June 1, 2004.

FOR FURTHER INFORMATION, CONTACT: Marc Warman, Program Leader, Funded Programs, Cooperative Services, Rural Business and Cooperative Programs, U.S. Department of Agriculture, STOP 3250, 1400 Independence Avenue, SW., Washington, DC 20252-3250, Telephone Number (202) 690-1431.

SUPPLEMENTARY INFORMATION: Title: Value-Added Producer Grants.

OMB Number: 0570-0039.

Expiration Date of Approval: October 30, 2004.

Type of Request: Extension of a currently approved information collection.

Abstract: The primary purpose of the Value-Added Producer Grant (VAPG) Program is to enable producers of agricultural commodities to participate in the economic returns to be found in the value-added market. Grants can be used for planning purposes such as feasibility studies, marketing plans, and business plans. Grants can also be used to establish working capital accounts to pay salaries, utilities, and other operating expenses for a new venture to help achieve a positive cash flow. Grants will be awarded on a competitive basis to eligible applicants based on specific selection criteria.

Estimate of Burden: Public reporting burden for this collection of information is estimated to average 43 hours per grant application.

Respondents: Independent agricultural producers, farmer and rancher cooperatives, agricultural producer groups, and majority-controlled producer-based groups.

Estimated Number of Respondents: 800.

Estimated Number of Responses per Respondent: 1.

Estimated Number of Responses: 800.

Estimated Total Annual Burden on Respondents: 34,040 hours.

Copies of this information collection can be obtained from Cheryl Thompson, Regulations and Paperwork Management Division, at (202) 692-0043.

Comments

Comments are invited on: (a) Whether the proposed collection of information is necessary for the proper performance of Rural Development functions, including whether the information will have a practical utility; (b) the accuracy of Rural Development's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology. Comments may be sent to Cheryl Thompson, Regulations and Paperwork Management Division, U.S. Department of Agriculture, Rural Development, STOP 0742, 1400 Independence Avenue SW., Washington, DC 20250. All responses to this notice will be summarized and included in the request for OMB approval. All comments will also become a matter of public record.

Dated: March 23, 2004.
John Rosso,
Administrator, Rural Business-Cooperative Service.

[FR Doc. 04-7036 Filed 3-29-04; 8:45 am]

BILLING CODE 3410-XY-P